DEPARTMENT OF COMMERCE

National Oceanic and Atmospheric Administration

RIN 0648-XC329

Mid-Atlantic Fishery Management Council; Public Hearings

AGENCY: National Marine Fisheries Service (NMFS), National Oceanic and Atmospheric Administration (NOAA), Commerce.

ACTION: Notice of intent to prepare an environmental impact statement (EIS); notice of initiation of scoping process; notice of scoping meetings; request for comments.

SUMMARY: The Mid-Atlantic Fishery Management Council (Council) announces its intent to prepare an amendment (Amendment 15) to the Fishery Management Plan (FMP) for Atlantic Mackerel, Squid, and Butterfish (MSB) and to prepare an EIS to analyze the impacts of any proposed management measures. The Council is initiating a public process to determine the scope of alternatives to be addressed in the amendment and EIS. This amendment currently will address the following issue: Whether the Council should begin direct federal management of river herrings (alewife and/or blueback herring) and/or shads (American and/or hickory). Additional issues may be added depending on the outcome of the scoping process. NMFS and the Council are alerting the interested public of the commencement of the scoping process and providing for public participation in compliance with environmental documentation requirements.

DATES: Public comments on Amendment 15 scoping must be received no later than 11:59 p.m., eastern standard time, on December 5, 2012. Scoping hearings will be held on the following dates:

• Nov 14, 2012, 6 p.m.-8 p.m.: Internet Webinar: https://www1.gotomeeting.com/register/268451473; While anyone with internet access can join the webinar, there will also be a listening post at: Virginia Marine Resources Commission, 2600 Washington Avenue, 3rd Floor, Newport News, VA 23607, (757) 247-2200.

• Nov 15, 2012, 7 p.m.-9 p.m.: Internet Webinar: https://www1.gotomeeting.com/register/625483785; While anyone with internet access can join the webinar, there will also be a listening post at: New York Marine Resources Bureau Headquarters; 205 North Belle Mead Rd., Suite 1, East Setauket, NY 11733, (631) 444-0430.

• Nov 19, 2012, 7 p.m.-9 p.m.: Congress Hall, 251 Beach Ave, Cape May, NJ 08204, 888-944-1816.

• Nov 20, 2012, 7 p.m.-9 p.m.: Radisson Hotel Providence Airport; 2081 Post Road; Warwick, RI 401-739-3000.

ADDRESSES: Written comments on Amendment 15 may be sent by any of the following methods:

• Email to the following address: nmfs.ner.msbam15@noaa.gov. Include “Scoping Comments on MSB 15” in the subject;

• Mail to Chris Moore, Ph.D., Executive Director, Mid-Atlantic Fishery Management Council, 800 North State Street, Suite 201, Dover, DE 19901. Mark the outside of the envelope “Scoping Comments on MSB 15” or

• Fax to Chris Moore, Ph.D., (302) 674-5399. Include “Scoping Comments on MSB 15” in the fax.

Requests for copies of the scoping document and other information should be directed to Chris Moore, Ph.D., Executive Director, Mid-Atlantic Fishery Management Council, 800 North State Street, Suite 201, Dover, DE 19901, toll-free telephone: (877) 446-2362. The scoping document is also accessible via the Internet at http://www.mafmc.org/fmp/msb.htm.

FOR FURTHER INFORMATION CONTACT: Chris Moore, Ph.D., Executive Director, Mid-Atlantic Fishery Management Council. Toll-free telephone: (877) 446-2362.

SUPPLEMENTARY INFORMATION: The purpose of this amendment is to consider measures for direct river herring and shad (RH/S) management by the Council. Currently, RH/S are managed by the Atlantic States Marine Fisheries Commission (ASMFC) but there are interactions with federal fisheries in federal waters. More direct management by the Council may help RH/S conservation efforts, which do not appear to have yet rebuilt many RH/S stocks. The amendment will consider whether the current management framework for river herring and shad is sufficient for conservation and management of these species and whether Federal management under the Magnuson-Stevens Act would address any deficiencies and/or inefficiencies. If management under the Magnuson-Stevens Act can address those issues, the amendment will consider a range of measures for Federal involvement/management. More details on the topics addressed in this supplementary information section may be found in the Amendment 15 scoping document (see above for how to obtain scoping document).

The Council will first gather information during the scoping period. This is the first and best opportunity for members of the public to raise concerns related to the scope of issues that will be considered in Amendment 15. The Council needs your input both to identify management issues and develop effective alternatives. Your comments early in the amendment development process will help us address issues of public concern in a thorough and appropriate manner. Comments can be made in writing, electronically, or during the scoping hearings as described above. If the Council decides to move forward with Amendment 15, the Council will develop a range of management alternatives to be considered and prepare an Environmental Impact Statement (EIS) to analyze the impacts of the management alternatives being considered as required by the National Environmental Policy Act (NEPA). Impacts may be direct, indirect, individual, or cumulative. A draft EIS will be distributed for public review. During a 45-day public comment period (which will also include public hearings) the public may comment on any aspect of the draft EIS. Following a review of the comments, the Council will then choose preferred management measures for submission with the Final EIS to the Secretary of Commerce for publishing of a proposed and then final rule, both of which have additional comment periods.

Special Accommodations: The scoping hearings are accessible to people with physical disabilities. Requests for sign language interpretation or other auxiliary aids should be directed to Chris Moore, Ph.D. (see contact info above) at least 5 days prior to the meeting date. Please contact Jason Didden at jdidden@mafmc.org or (302) 526-5254 at least 5 days prior to the meeting date if you would like to confirm that your computer is set up to access the webinar. The webinar works for most computers, but sometimes there are technical problems with remote voice communication from online participants. In such cases, participants may still use a chat feature in the webinar to submit written comments or questions.

Authority: 16 U.S.C. 1801 et seq.

Dated: October 26, 2012.
William D. Chappell,
Acting Deputy Director, Office of Sustainable Fisheries, National Marine Fisheries Service.

[FR Doc. 2012-26795 Filed 10-30-12; 8:45 am]

BILLING CODE 3510-22-P